DEPARTMENT OF AGRICULTURE

Agricultural Research Service

Notice of Intent To Grant Exclusive License

AGENCY: Forest Service, USDA.

ACTION: Notice of intent.

SUMMARY: Notice is hereby given that the U.S. Department of Agriculture, Forest Service, intends to grant Aerotech Laboratories, Inc. of Phoenix, Arizona an exclusive license to U.S. Patent No. 5,563,040, “Method and Apparatus for Immunological Diagnosis of Fungal Decay in Wood,” issued on October 8, 1996. Notice of Availability of this invention for licensing was published in the Federal Register on June 21, 1994.

DATES: Comments must be received within thirty (30) calendar days of the date of publication of this notice in the Federal Register.

ADDRESSES: Send comments to: Patent Advisor, USDA Forest Service, One Gifford Pinchot Drive, Madison, Wisconsin 53705-2398.

FOR FURTHER INFORMATION CONTACT: Janet I. Stockhausen of the USDA Forest Service at the Madison address given above; telephone 608-231-9502.

SUPPLEMENTARY INFORMATION: The Federal Government's patent rights in this invention are assigned to the United States of America, as represented by the Secretary of Agriculture. It is in the public interest to so license this invention as Aerotech Laboratories, Inc. of Phoenix, Arizona has submitted a complete and sufficient application for a license.

The prospective license will be royalty-bearing and will comply with the terms and conditions of 35 U.S.C. 209 and 37 CFR 404.7. The prospective license may be granted unless, within thirty (30) days from the date of this published notice, the Forest Service receives written evidence and argument which establishes that the grant of the license would not be consistent with the requirements of 35 U.S.C. 209 and 37 CFR 404.7.

Michael D. Ruff,
Assistant Administrator.

[FR Doc. 03-23218 Filed 9-11-03; 8:45 am]

BILLING CODE 3410-03-P